FEDERAL COMMUNICATIONS COMMISSION

47 CFR Part 73

[MB Docket No. 18-1268; RM-11800; DA 19-264]

Television Broadcasting Services Bridgeport and Stamford, Connecticut

AGENCY: Federal Communications Commission.

ACTION: Final rule.

SUMMARY: At the request of Connecticut Public Broadcasting, Inc. (CPBI), licensee of television station WEDW channel *49, Bridgeport, Connecticut (WEDW), the Commission has before it a contested Notice of Proposed Rulemaking to change WEDW's community of license from Bridgeport to Stamford, Connecticut. The Commission believes that the proposal is a preferential arrangement of allotments because it will provide Stamford, the third largest city in Connecticut, with its first broadcast television service. The Commission also reiterates that the grant of the proposal will not deprive Bridgeport of its sole broadcast television service because it will continue to be served by full power television station WZME, Bridgeport, Connecticut, licensed to NRJ TV NY License Co., LLC (NRJ).

DATES: Effective April 19, 2019.

FOR FURTHER INFORMATION CONTACT: Joyce Bernstein, Media Bureau, at Joyce.Bernstein@fcc.gov, (202) 418-1647.

SUPPLEMENTARY INFORMATION: This is a synopsis of the Commission's Report and Order, MB Docket No. 18-126; RM-11800; DA 19-264, adopted April 8, 2019, and released April 8, 2019. The full text of this document is available for public inspection and copying during normal business hours in the FCC's Reference Information Center at Portals II, CY-A257, 445 12th Street SW, Washington, DC, 20554, or online at http://apps.fcc.gov/ecfs/. To request materials in accessible formats (braille, large print, computer diskettes, or audio recordings), please send an email to FCC504@fcc.gov or call the Consumer & Government Affairs Bureau at (202) 418-0530 (VOICE), (202) 418-0432 (TTY). The Notice of Proposed Rulemaking published on July 6, 2018 (83 FR 31516).

Paperwork Reduction Act

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Congressional Review Act

The Commission will send a copy of this Report and Order in a report to be sent to Congress and the Government Accountability Office pursuant to the Congressional Review Act, see 5 U.S.C. 801(a)(1)(A).

List of Subjects in 47 CFR Part 73

Television.

Federal Communications Commission.
Barbara Kreisman,
Chief, Video Division, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

§ 73.622 [Amended]

2. Section 73.622(i), the Post-Transition Table of DTV Allotments under Connecticut, is amended by removing Bridgeport, channel *49, and adding, in alphabetical order, Stamford, channel *49.

[FR Doc. 2019-07848 Filed 4-18-19; 8:45 am]

BILLING CODE 6712-01-P